DEPARTMENT OF COMMERCE

International Trade Administration

[A-580-883]

Certain Hot-Rolled Steel Flat Products From the Republic of Korea: Final Results of Antidumping Duty Administrative Review; 2016-2017; Certain Hot-Rolled Steel Flat Products From the Republic of Korea: Amended Final Results of Antidumping Duty Administrative Review; 2016-2017; and Certain Hot-Rolled Steel Flat Products From the Republic of Korea: Final Results of Antidumping Duty Administrative Review and Rescission of Administrative Review, in Part; 2017-2018; Correction

AGENCY: Enforcement and Compliance, International Trade Administration, Department of Commerce.

ACTION: Notice; correction.

SUMMARY: On July 9, 2019, August 5, 2019, and October 6, 2020, respectively, the Department of Commerce (Commerce) published in the Federal Register notices of the final results of the 2016-2017 administrative review, the amended final results of the 2016-2017 administrative review, and the final results of the 2017-2018 administrative review of certain hot-rolled steel flat products (hot-rolled steel) from the Republic of Korea (Korea). This notice corrects the all-others cash deposit rate stated in those determinations.

DATES: Applicable February 10, 2022.

FOR FURTHER INFORMATION CONTACT: Genevieve Coen, AD/CVD Operations, Office V, Enforcement and Compliance, International Trade Administration, Department of Commerce, 1401 Constitution Avenue NW, Washington, DC 20230; telephone: (202) 482-3251.

SUPPLEMENTARY INFORMATION:

Correction

In the Federal Register of July 9, 2019, in the FR Doc 2019-14482 on page 32721, in the second column, correct the all-others cash deposit rate for “all other producers or exporters” in the first paragraph under the “Cash Deposit Requirements” section. The correct all-others cash deposit rate for “all other producers or exporters” is 6.05 percent.

In the Federal Register of August 5, 2019, in the FR Doc 2019-16652 on page 37990, in the first column, correct the all-others cash deposit rate for “all other producers or exporters” in the first paragraph under the “Cash Deposit Requirements” section. The correct all-others cash deposit rate for “all other producers or exporters” is 6.05 percent.

In the Federal Register of October 6, 2020, in the FR Doc 2020-22053 on page 63081, in the first column, correct the all-others cash deposit rate for “all other producers or exporters” in the first paragraph under the “Cash Deposit Requirements” section. The correct all-others cash deposit rate for “all other producers or exporters” is 6.05 percent.

Background

On July 9, 2019, August 5, 2019, and October 6, 2020, Commerce published in the Federal Register notices of the final results of the 2016-2017 administrative review, the amended final results of the 2016-2017 administrative review, and the final results of the 2017-2018 administrative review, respectively. We incorrectly identified the cash deposit rate for all others (i.e., “for all other producers or exporters”) as 5.55 percent. The correct all-others cash deposit rate applicable during the 2016-2017 and 2017-2018 periods of review did not change from the rate that was established in the less-than-fair-value (LTFV) investigation and the antidumping duty order. In the LTFV investigation, Commerce established a 6.05 percent cash deposit rate for all others (i.e., “for all other producers or exporters”) as published in the antidumping duty order.¹ We hereby notify the public that Commerce should have identified the all-others cash deposit rate as 6.05 percent in the above-referenced determinations. We intend to notify U.S. Customs and Border Protection of these corrections.

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016).

Notification to Interested Parties

This notice is issued and published in accordance with sections 751(a) and 777(i) of the Act.

Dated: February 4, 2022.
Lisa W. Wang,
Assistant Secretary for Enforcement and Compliance.

[FR Doc. 2022-02852 Filed 2-9-22; 8:45 am]

BILLING CODE 3510-DS-P